DEPARTMENT OF AGRICULTURE

National Agricultural Statistics Service

Notice of Intent To Request To Conduct a New Information Collection

AGENCY: National Agricultural Statistics Service, USDA.

ACTION: Notice and request for comments.

SUMMARY: In accordance with the Paperwork Reduction Act of 1995, this notice announces the intention of the National Agricultural Statistics Service (NASS) to seek approval to conduct a new information collection to gather data related to agricultural activity in two urbanized areas (Seattle, WA and Austin, TX). The data will be used to develop and refine procedures to be used to collect agricultural data in urbanized areas for the 2017 Census of Agriculture.

DATES: Comments on this notice must be received by February 9, 2016 to be assured of consideration.

ADDRESSES: You may submit comments, identified by docket number 0535-NEW, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: R. Renee Picanso, Associate Administrator, National Agricultural Statistics Service, U.S. Department of Agriculture, (202) 720-2707. Copies of this information collection and related instructions can be obtained without charge from David Hancock, NASS—OMB Clearance Officer, at (202) 690-2388 or at ombofficer@nass.usda.gov.

SUPPLEMENTARY INFORMATION:

Title: Urban Agriculture Pilot Surveys.

OMB Control Number: 0535-NEW.

Type of Request: Intent to seek approval to conduct a new information collection for a period of three years.

Abstract: The National Agricultural Statistics Service (NASS) has traditionally been focused on production agriculture. This focus has omitted some urban agriculture, which is attracting increased interest from individuals and local governments. In contrast with traditional agriculture, agriculture in urbanized areas tends to be conducted in smaller areas and have less potential for sales. Yet, urban agriculture contributes to the Nation's food security by providing local sources. NASS intends to integrate urban agriculture in future Censuses of Agriculture. In 2015, NASS conducted a small scale urban agriculture study in Baltimore, Maryland. This new data collection will build on the Baltimore project by refining methodology and procedures for: (1) Building the list of potential urban agricultural locations, (2) developing the questionnaire used to collect urban agricultural data, (3) data collection, and (4) summarizing data on urban agriculture. The intent is that the resulting methodology and procedures will be integrated into the 2017 Census of Agriculture to collect data on urban agriculture, in addition to traditional agriculture. This data collection includes surveys to be conducted in two urbanized areas: Seattle, Washington and Austin, Texas. The first survey will be conducted in Seattle. The second survey will be conducted in Austin to address methodological issues that remain after analyzing results from the Baltimore and Seattle projects. All results from these surveys will be used for internal purposes only; no publications will be generated. These surveys will be voluntary.

Authority: The data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.), and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: This collection of information contains two components. The first component consists of up to 50 cognitive interviews (conducted through personal enumeration) and is intended to develop the questionnaire used to gather data on agricultural activity in urbanized areas. Public reporting burden for this component is estimated to average 60 minutes per response. The second component is a survey conducted in two urbanized areas (Seattle, WA and Austin, TX). The sample sizes for the Seattle and Austin surveys will be 390 and 545, respectively. Public reporting burden for this component is estimated to average 50 minutes per response. For this component, NASS plans to use a combination of mailed pre-survey letters, mailed questionnaires, telephone enumeration, and personal enumeration.

Respondents: Individuals and households.

Estimated Number of Respondents: 985.

Estimated Total Annual Burden on Respondents: 700 hours.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological, or other forms of information technology collection methods.

All responses to this notice will become a matter of public record and be summarized in the request for OMB approval.

Signed at Washington, DC, December 1, 2015.
R. Renee Picanso,
Associate Administrator.

[FR Doc. 2015-31246 Filed 12-10-15; 8:45 am]

BILLING CODE 3410-20-P.